DEPARTMENT OF JUSTICE

Notice of Lodging of Proposed Natural Resource Damages Consent Decree Under the Comprehensive Environmental Response, Compensation, and Liability Act

Notice is hereby given that on December 29, 2011, a proposed Consent Decree in United States and State of New Mexico v. Freeport-McMoRan Corp. et al. (“Freeport-McMoRan Consent Decree”), Civil Action No. 1:11-cv-1140 (D. N.M.), was lodged with the United States District Court for the District of New Mexico.

The Complaint in this case was filed against Freeport-McMoRan Corporation, Freeport-McMoRan Chino Mines Company, Freeport-McMoRan Tyrone Inc., Freeport-McMoRan Tyrone Mining LLC, and Freeport-McMoRan Cobre Mining Company (collectively “Freeport-McMoRan”) on December 29, 2011. The cause of action is based on Section 107(a) of the Comprehensive Environmental Response, Compensation, and Liability Act of 1980, as amended (“CERCLA”), 42 U.S.C. 9607(a). The Complaint alleges that Freeport-McMoRan is civilly liable for payment of damages for injuries to natural resources belonging to, managed by, or controlled by the United States and the State of New Mexico that resulted from hazardous substance releases at and from Freeport-McMoRan's Chino Mine, Tyrone Mine, and Cobre Mine in southwestern New Mexico. The Complaint further alleges that surface waters, ground water, terrestrial habitat and wildlife, and migratory birds have been injured, destroyed, or lost as a result of releases of hazardous substances at and from the mine sites.

Under the settlement, Freeport-McMoRan will pay $5.5 million to the United States Department of the Interior's Natural Resource Damage Assessment and Restoration Fund, which can be used to restore, rehabilitate, replace, or acquire the equivalent of wildlife and wildlife habitat injured, destroyed, or lost as a result of releases at the mine sites. Freeport-McMoRan will also convey to the New Mexico State Parks Division approximately 715 acres of land adjacent to the City of Rocks State Park in Grant County, New Mexico to further offset natural resource losses at the mine sites. Finally, Freeport-McMoRan will reimburse the Department of Interior's remaining unpaid past natural resource damage assessment costs, which amount to $59,750.99.

The Department of Justice will receive for a period of thirty (30) days from the date of this publication comments relating to the Freeport-McMoRan Consent Decree. Comments should be addressed to the Assistant Attorney General, Environment and Natural Resources Division, and either emailed to pubcomment-ees-enrd@usdoj.gov or mailed to P.O. Box 7611, U.S. Department of Justice, Washington, DC 20044-7611, and should refer to United States and State of New Mexico v. Freeport-McMoran Corp. et al., Case No. 1:11-cv-1140 (D. N.M.), D.J. Ref. 90-11-3-08069.

During the public comment period, the Freeport-McMoRan Consent Decree may also be examined on the following Department of Justice Web site: http://www.usdoj.gov/enrd/Consent_Decrees.html. A copy of the Freeport-McMoRan Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $14.75 (25 cents per page reproduction cost) payable to the U.S. Treasury or, if requesting by email or fax, forward a check in that amount to the Consent Decree Library at the address given above.

Ronald G. Gluck,
Assistant Section Chief, Environmental Enforcement Section, Environment and Natural Resources Division.

[FR Doc. 2011-33803 Filed 1-4-12; 8:45 am]

BILLING CODE 4410-15-P